OFFICE OF PERSONNEL MANAGEMENT

5 CFR Part 300

[Docket ID: OPM-2023-0014]

RIN 3206-AO37

Bar to Appointment of Persons Who Fail To Register Under Selective Service Law

AGENCY: Office of Personnel Management.

ACTION: Withdrawal of proposed rule.

SUMMARY: The Office of Personnel Management (OPM) withdraws a proposed rule published on February 7, 2024. The notice of proposed rulemaking proposed to revise the procedures for determining whether an individual's failure to register with the Selective Service System (SSS) was knowing and willful.

DATES: OPM withdraws the proposed rule published on February 7, 2024, at 89 FR 8352, as of July 15, 2025.

ADDRESSES: The docket for this withdrawn rule is available at https://www.regulations.gov/docket/OPM-2023-0014.

FOR FURTHER INFORMATION CONTACT: Michael Mahoney by email at employ@opm.gov or by telephone at 202-936-3265.

SUPPLEMENTARY INFORMATION: On February 7, 2024, the Office of Personnel Management (OPM) published a notice of proposed rulemaking (NPRM or proposed rule) titled “Bar to Appointment of Persons Who Fail to Register Under Selective Service Law” in the Federal Register. See 89 FR 8352. The NPRM proposed to change the procedures for determining whether an individual's failure to register with the SSS was knowing and willful. Specifically, OPM proposed to clarify the applicable standard used to determine what constitutes “knowing and willful,” to establish new procedures for individuals to submit evidence in support of their non-registration, and to allow Executive agencies to make the initial determination as to whether an individual's failure to register with the SSS was knowing and willful.

In response to the NPRM, OPM received approximately 13 comments during the 60-day comment period which ended on April 8, 2024.

All agencies participate in the semi-annual Unified Agenda of Regulatory and Deregulatory Actions (“Unified Agenda”), which provides a summary description of the regulatory actions that each agency is considering or reviewing. Withdrawal of this proposed rule will allow OPM to better align its entries on the Unified Agenda with OPM's needs, priorities, and objectives.

Accordingly, for each of these independently sufficient reasons, OPM is withdrawing the NPRM associated with Regulation Identifier Numbers (“RIN”) 3206-AO37. Should OPM decide at a future date to initiate the same or similar rulemakings, OPM will issue a new NPRM under a new RIN.

Office of Personnel Management.
Jerson Matias,
Federal Register Liaison.

[FR Doc. 2025-13204 Filed 7-14-25; 8:45 am]

BILLING CODE 6325-39-P